DEPARTMENT OF ENERGY

Federal Energy Regulatory Commission

Combined Notice of Filings #1

Take notice that the Commission received the following electric rate filings:

Docket Numbers: ER10-2738-015; ER14-1288-003; ER11-4269-015; ER20-2586-005; ER20-2587-004; ER20-2669-004; ER16-2412-010.

Applicants: Luning Energy LLC, Neosho Ridge Wind, LLC, Kings Point Wind, LLC, North Fork Ridge Wind, LLC, Algonquin Tinker Gen Co., Liberty Utilities (Granite State Electric) Corp., The Empire District Electric Company.

Description: Notice of Non-Material Change in Status of The Empire District Electric Company, et al.

Filed Date: 2/24/26.

Accession Number: 20260224-5211.

Comment Date: 5 p.m. ET 3/17/26.

Docket Numbers: ER26-750-001.

Applicants: Black Hills Power, Inc.

Description: Tariff Amendment: Response to Deficiency Filing to be effective 4/1/2026.

Filed Date: 2/26/26.

Accession Number: 20260226-5273.

Comment Date: 5 p.m. ET 3/19/26.

Docket Numbers: ER26-1514-000.

Applicants: New York Independent System Operator, Inc.

Description: § 205(d) Rate Filing: NYISO 205: Amended LGIA Sunrise Offshore Wind SA2795 (CEII) to be effective 2/10/2026.

Filed Date: 2/25/26.

Accession Number: 20260225-5190.

Comment Date: 5 p.m. ET 3/18/26.

Docket Numbers: ER26-1515-000.

Applicants: Pacific Gas and Electric Company.

Description: § 205(d) Rate Filing: TO SA 343: SVP WPA for Scott Receiving Station to be effective 3/9/2026.

Filed Date: 2/26/26.

Accession Number: 20260226-5001.

Comment Date: 5 p.m. ET 3/19/26.

Docket Numbers: ER26-1516-000.

Applicants: American Transmission Systems, Incorporated.

Description: § 205(d) Rate Filing: ATSI submits an Amended IA—SA No. 3992 to be effective 4/28/2026.

Filed Date: 2/26/26.

Accession Number: 20260226-5050.

Comment Date: 5 p.m. ET 3/19/26.

Docket Numbers: ER26-1517-000.

Applicants: Arizona Public Service Company.

Description: § 205(d) Rate Filing: OATT—Attachment Q Revisions for EDAM CC to be effective 5/1/2026.

Filed Date: 2/26/26.

Accession Number: 20260226-5077.

Comment Date: 5 p.m. ET 3/19/26.

Docket Numbers: ER26-1518-000.

Applicants: Cape Generating Station 3 LLC.

Description: Initial Rate Filing: Application for Market-Based Rate Authority to be effective 4/6/2026.

Filed Date: 2/26/26.

Accession Number: 20260226-5241.

Comment Date: 5 p.m. ET 3/19/26.

Docket Numbers: ER26-1519-000.

Applicants: Cape Generating Station 5 LLC.

Description: Initial Rate Filing: Application for Market Based Rate Authorization to be effective 2/26/2026.

Filed Date: 2/26/26.

Accession Number: 20260226-5243.

Comment Date: 5 p.m. ET 3/19/26.

Docket Numbers: ER26-1520-000.

Applicants: Crockett Cogeneration, LLC.

Description: § 205(d) Rate Filing: Application for Market-Based Rate Authority and Request for Waivers to be effective 5/26/2026.

Filed Date: 2/26/26.

Accession Number: 20260226-5248.

Comment Date: 5 p.m. ET 3/19/26.

Docket Numbers: ER26-1521-000.

Applicants: Midcontinent Independent System Operator, Inc.

Description: § 205(d) Rate Filing: 2026-02-26_Uninstructed Deviation Settlement Charges to be effective 6/1/2026.

Filed Date: 2/26/26.

Accession Number: 20260226-5254.

Comment Date: 5 p.m. ET 3/19/26.

Docket Numbers: ER26-1522-000.

Applicants: Cape Generating Station 3 LLC.

Description: Initial Rate Filing: Certificate of Concurrence to be effective 4/6/2026.

Filed Date: 2/26/26.

Accession Number: 20260226-5256.

Comment Date: 5 p.m. ET 3/19/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 26, 2026.
Carlos D. Clay,
Deputy Secretary.

[FR Doc. 2026-04162 Filed 3-2-26; 8:45 a.m.]

BILLING CODE 6717-01-P